DEPARTMENT OF TRANSPORTATION

Pipeline and Hazardous Materials Safety Administration

[Docket ID PHMSA-2010-0294]

Pipeline Safety: Control Room Management Implementation Workshop

AGENCY: Pipeline and Hazardous Materials Safety Administration (PHMSA), DOT.

ACTION: Notice of workshop.

SUMMARY: PHMSA is conducting a workshop in conjunction with the National Association of Pipeline Safety Representatives (NAPSR) on the implementation of pipeline control room management. The workshop is intended to foster an understanding of the Control Room Management Rule issued by PHMSA on December 3, 2009, and is open to the public. Panel discussions will provide insight on topics associated with fatigue management and maximum hours of service, alarm management, and adequate information. Those attending the workshop will have the opportunity to ask questions about the rule while engaging in open discussions with various stakeholders including representatives from the public, regulatory, and industry. This workshop will also provide PHMSA input to further refine guidance material currently in development.

DATES: The workshop will be held on November 17, 2010. Name badge pick up and on-site registration will be available starting at 7:30 a.m., with the workshop taking place from 8 a.m. until approximately 5:15 p.m. Refer to the meeting website for updated agenda and times at https://primis.phmsa.dot.gov/meetings/Mtg67.mtg. The workshop will not be a live webcast, however, all workshop presentations and an audio recording will be available on the PHMSA meeting website. Workshop presentations will also be available on the meeting docket.

ADDRESSES: The workshop will be held at the Intercontinental Hotel, 2222 West Loop South, Houston, TX 77027. Hotel reservations under the “USDOT CRM Meeting” room block for the nights of November 16 and 17, 2010, can be made at 1-800-316-8645. A daily base rate of $109.00 is available. The meeting room will be posted at the hotel on the day of the workshop.

FOR FURTHER INFORMATION CONTACT: Karen Butler at 816-329-3835, or by e-mail at karen.butler@dot.gov.

ADDRESSES: Registration: Anyone may attend this free workshop. To help ensure that adequate space is provided, all attendees are encouraged to register for the workshop at https://primis.phmsa.dot.gov/meetings/Mtg67.mtg. Hotel reservations must be made by contacting the hotel directly.

Comments: Anyone may submit written comments, either before or after the workshop. Comments should reference Docket ID PHMSA-2010-0294. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

Hand Delivery: DOT Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided.

Privacy Act Statement: Anyone may search the electronic form of all comments received for any of our dockets. You may review DOT's complete Privacy Act Statement in the Federal Register published April 11, 2000, (65 FR 19477).

Information on Services for Individuals with Disabilities: For information on facilities or services for individuals with disabilities, or to request special assistance at the meeting, please contact Karen Butler at 816-329-3835, or by e-mail at karen.butler@dot.gov by November 5, 2010.

SUPPLEMENTARY INFORMATION: On December 3, 2009, (74 FR 63310) PHMSA issued a final rule “Control Room Management/Human Factors” which became effective on February 1, 2010. The final rule amended the Federal pipeline safety regulations to address human factors and other aspects of control room management for certain pipelines where controllers use supervisory control and data acquisition (SCADA) systems. Under the final rule, pipeline operators must implement methods to reduce the risk associated with controller fatigue. In addition, certain operators must define the roles and responsibilities of controllers and provide controllers with the necessary information, training, and processes to fulfill these responsibilities. Affected operators must also manage alarms, ensure control room considerations are taken into account when changing pipeline equipment or configurations, and review reportable incidents for accidents to determine whether control room actions contributed to the event.

The workshop will include presentations highlighting several topical areas and the sharing of specific solutions based on initial feedback received from stakeholders. The panel format will offer the opportunity for dialogue and sharing of ideas to help PHMSA generate guidance material.

Preliminary Workshop Agenda

The preliminary agenda for the workshop includes:

(1) Introduction and Overview.

(2) Definitions and Control Room Specifics.

(3) Fatigue and Maximum Hours of Service (panel).

(4) Alarm Management (panel).

(5) Roles and Responsibilities.

(6) Adequate Information (panel).

(7) Remaining Code Sections.

(8) Open Question and Answer.

(9) Wrap Up and Path Forward.

Refer to the meeting Web site for a more detailed agenda: https://primis.phmsa.dot.gov/meetings/Mtg67.mtg.

Issued in Washington, DC on October 22, 2010.
Jeffrey D. Wiese,
Associate Administrator for Pipeline Safety.

[FR Doc. 2010-27564 Filed 11-1-10; 8:45 am]

BILLING CODE 4910-60-P